GENERAL SERVICES ADMINISTRATION

[Notice-MA-2023-02; Docket No. 2023-0002; Sequence No. 3]

Fleet Management Information Systems

AGENCY: Office of Government-Wide Policy (OGP), General Services Administration (GSA).

ACTION: Notice of GSA FMR Bulletin B-2023-55.

SUMMARY: Federal Management Regulation (FMR) Bulletin B-2023-55 cancels and replaces Bulletin FMR B-15 to provide updated guidance for Executive Agencies' fleet management information systems (FMIS). This bulletin also incorporates requirements for asset level data and telematics. GSA expects that, following this guidance, the data accuracy contained in agencies' FMIS will improve.

DATES: Applicable: May 25, 2023.

FOR FURTHER INFORMATION CONTACT: James Vogelsinger, Director, Vehicle Policy Division, at 202-501-1764 or vehicle.policy@gsa.gov.

SUPPLEMENTARY INFORMATION:

Background

FMR Bulletin B-15 was published in 2007 to emphasize that executive agencies are required to have FMIS. While agencies are still required to operate and maintain FMIS, Bulletin FMR B-15 does not cover innovations in fleet management technology such as telematics and asset level data requirements.

FMR Bulletin B-2023-55 is available for download at https://www.gsa.gov/policy-regulations/regulations/federal-management-regulation/federal-management-regulation-fmr-related-files#FMRBulletins.

Krystal J. Brumfield,
Associate Administrator, Office of Government-Wide Policy.

[FR Doc. 2023-11154 Filed 5-24-23; 8:45 am]

BILLING CODE 6820-14-P